DEPARTMENT OF VETERANS AFFAIRS

[OMB Control No. 2900-New (Patient & Caregiver)]

Agency Information Collection: (PACT Qualitative Evaluation: Patient & Caregiver Interviews); Comment Request

AGENCY: Veterans Health Administration, Department of Veterans Affairs.

ACTION: Notice.

SUMMARY: In compliance with the Paperwork Reduction Act (PRA) of 1995 (44 U.S.C., 3501-3521), this notice announces that the Department of Veterans Affairs (VA), will submit to the Office of Management and Budget (OMB) the following emergency proposal for the collection of information under the provisions of the Paperwork Reduction Act (44 U.S.C. 3507(j)(1)). An emergency clearance is being requested for information needed to evaluate the universal Patient Aligned Care Teams (PACT) Systems Redesign, document patients' and their informal caregivers' experience.

DATES: Comments must be submitted on or before August 31, 2012.

ADDRESSES: Send comments and recommendations concerning any aspect of the information collection to VA's OMB Desk Officer, OMB Human Resources and Housing Branch, New Executive Office Building, Room 10235, Washington, DC 20503 (202) 395-7316 or FAX (202) 395-6974. Please refer to “2900-New (Patient & Caregiver).

FOR FURTHER INFORMATION CONTACT: Denise McLamb, Enterprise Records Service (005R1B), Department of Veterans Affairs, 810 Vermont Avenue NW., Washington, DC 20420, (202) 632-7479, FAX (202) 632-7583 or email: denise.mclamb@va.gov. Please refer to “OMB Control No. 2900-New (Patient & Caregiver).

SUPPLEMENTARY INFORMATION:

Title: PACT Qualitative Evaluation: Patient & Caregiver Interviews.

OMB Control Number: 2900—New

Type of Review: New data collection.

Abstract: The information collected will be used assess patients' and caregivers' experiences with the PACT Systems Redesign and the PACT Demo Lab innovations and will inform the redesign and demo lab innovations in real time. It will also gather information on patient characteristics and their experiences with self-managing chronic conditions, using technology to care for their health, and involving friends and family members in their health care. The information collected will be used by the PACT Demonstration Laboratory and the Ambulatory Care Service to evaluate the universal VHA PACT Systems Redesign, document patients' and their informal caregivers' experiences over time, and improve patient care through specific mechanisms.

Affected Public: Individuals or households.

Estimated Annual Burden: 50 burden hours.

Estimated Average Burden per Respondent: 30 minutes.

Frequency of Response: One-time.

Estimated Number of Respondents: 100.

Dated: August 16, 2012.
By direction of the Secretary.
Denise McLamb,
Program Analyst Director, Enterprise Records Service.

[FR Doc. 2012-20462 Filed 8-20-12; 8:45 am]

BILLING CODE 8320-01-P